NUCLEAR REGULATORY COMMISSION

[NRC-2010-0242]

Review of Management Directive 8.11

AGENCY: Nuclear Regulatory Commission.

ACTION: Opportunity for public comment.

SUMMARY: The Nuclear Regulatory Commission (NRC) is requesting public comment on Management Directive (MD) 8.11, “Review Process for 10 CFR 2.206 Petitions,” dated July 1, 1999. MD 8.11 is a guidance document that details the internal procedures for NRC staff review and disposition of petitions submitted under Title 10 of the Code of Federal Regulations (10 CFR) 2.206. Because some of these internal procedures directly impact the interaction between members of the public and the NRC, the NRC is soliciting comments from the public, on what, if any, revisions should be made to the agency's internal process as described in MD 8.11.

DATES: Comments must be filed no later than October 13, 2010. Comments received after this date will be considered, if it is practical to do so, but the NRC is able to assure consideration only for comments received on or before this date.

ADDRESSES: You may submit comments by any one of the following methods. Please include Docket ID NRC-2010-0242 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0242. Address questions about NRC dockets to Carol Gallagher 301-492-3668; e-mail Carol.Gallagher@nrc.gov.

Mail comments to: Cindy Bladey, Chief, Rules, Announcements and Directives Branch (RADB), Division of Administrative Services, Office of Administration, Mail Stop: TWB-05-B01M, U.S. Nuclear Regulatory Commission, Washington, DC 20555-0001, or by fax to RADB at (301) 492-3446.

You can access publicly available documents related to this document using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. MD 8.11 is available electronically under ADAMS Accession Number ML041770328.

FOR FURTHER INFORMATION CONTACT: Tanya M. Mensah, Office of Nuclear Reactor Regulation, U.S. Nuclear Regulatory Commission, Washington, DC 20555-0001, Telephone: 301-415-3610 or Toll Free: 1-800-368-5642.

SUPPLEMENTARY INFORMATION:

Background

MD 8.11, “Review Process for 10 CFR 2.206 Petitions,” is a guidance document that details the internal procedures for NRC staff review and disposition of petitions submitted under Title 10 of the Code of Federal Regulations (10 CFR) 2.206. Because some of these internal procedures directly impact the interaction between members of the public and the NRC, the NRC is soliciting comments from the public, on what, if any, revisions should be made to the agency's internal process as described in MD 8.11. The 10 CFR 2.206 process is the primary mechanism for a member of the public to request Commission review of a potential safety problem with an NRC licensed facility, outside of a licensing or rulemaking proceeding. Any person may file a petition under 10 CFR 2.206 to request that the Commission modify, suspend, or revoke a license, or take any other enforcement-related action that may be proper. This process provides the public with a mechanism to raise issues of concern to the Commission. Each 10 CFR 2.206 petition is reviewed by the appropriate major program Office. Upon receipt of each petition, the appropriate program Office assembles a petition review board (PRB) typically consisting of a Senior Executive Service level manager, a petition manager, a petition coordinator, technical experts, regional inspectors, and legal and enforcement advisors. The PRB follows the guidance in MD 8.11 to determine if the petition meets the criteria for review. If the PRB determines that the petition meets the criteria for review, the office director issues a formal Director's Decision providing a specific disposition of the issues raised in the petition. If the Office Director finds that the petition raises a substantial safety concern, an enforcement order may be issued or other appropriate action taken, within the Office Director's discretion.

Discussion

In support of the NRC's efforts to update each MD every five years, the NRC staff is evaluating MD 8.11, which details the internal procedures for NRC staff review and disposition of petitions submitted under Title 10 of the Code of Federal Regulations (10 CFR) 2.206. The purpose of this evaluation is to ensure that the 10 CFR 2.206 process is an effective, equitable, and credible mechanism for the public to prompt Commission investigation and resolution of potential health and safety problems. This evaluation is consistent with current Commission efforts to ensure openness in the Commission's decision making process. The NRC plans to consider comments provided by members of the public during its evaluation of MD 8.11.

Dated at Rockville, Maryland, this 15th day of July 2010.
For the Nuclear Regulatory Commission.
John R. Jolicoeur,
Chief, Licensing Processes Branch, Division of Policy and Rulemaking, Office of Nuclear Reactor Regulation.

[FR Doc. 2010-18739 Filed 7-29-10; 8:45 am]

BILLING CODE 7590-01-P